DEPARTMENT OF COMMERCE

International Trade Administration

[A-337-806]

Notice of Preliminary Results of Antidumping Duty Administrative Review: Certain Individually Quick Frozen Red Raspberries from Chile

AGENCY: Import Administration, International Trade Administration, Department of Commerce.

SUMMARY: The Department of Commerce is conducting an administrative review of the antidumping duty order on certain individually quick frozen (IQF) red raspberries from Chile. The period of review (POR) is July 1, 2006, through June 30, 2007. This review covers sales of IQF red raspberries by producer/exporter Sociedad Agroindustrial Valle Frio Ltda. We preliminarily find that, during the POR, sales of IQF red raspberries were not made below normal value. Interested parties are invited to comment on these preliminary results. We will issue the final results not later than 120 days from the date of publication of this notice.

EFFECTIVE DATE: August 4, 2008.

FOR FURTHER INFORMATION CONTACT: Alexander Montoro or Nancy Decker, AD/CVD Operations, Office 1, Import Administration, International Trade Administration, U.S. Department of Commerce, 14th Street and Constitution Avenue, NW, Washington DC 20230; telephone (202) 482-0238 and (202) 482-0196, respectively.

SUPPLEMENTARY INFORMATION:

Background

On July 9, 2002, the Department of Commerce (Department) published an antidumping duty order on certain IQF red raspberries from Chile. See Notice of Antidumping Duty Order: IQF Red Raspberries From Chile, 67 FR 45460 (July 9, 2002). On July 3, 2006, the Department published a notice of opportunity to request administrative review of this order. See Antidumping or Countervailing Duty Order, Finding, or Suspended Investigation; Opportunity to Request Administrative Review, 72 FR 36420 (July 3, 2007). On July 31, 2007, we received a request for review from Sociedad Agroindustrial Valle Frio Ltda. (Valle Frio).¹ On August 30, 2006, we initiated the fourth administrative review for Valle Frio. See Initiation of Antidumping and Countervailing Duty Administrative Reviews and Request for Revocation in Part, 72 FR 48613 (Aug. 24, 2007). On September 17, 2007, the Department issued an antidumping questionnaire to Valle Frio. Valle Frio submitted its initial responses to the antidumping questionnaire from October 2007 through November 2007.

¹ In the third administrative review, the Department collapsed Valle Frio with its affiliated producer, Agricola Framparque (Framparque). See Memorandum to Susan Kuhbach, Director, “Collapsing of Sociedad Agroindustrial Valle Frio Ltda.,” dated July 31, 2006. See Notice of Preliminary Results of Antidumping Duty Administrative Review, Notice of Intent to Revoke in Part: Certain Individually Quick Frozen Red Raspberries from Chile (unchanged in final) (Third Administrative Review of Raspberries from Chile), 71 FR 45000, 45001 (Aug. 8, 2006). There has been no change in the facts since then, so for the instant administrative review, we are treating Valle Frio and Framparque as a single entity.

On March 7, 2008, we requested that Valle Frio respond to the Constructed Value (CV) portion of the Department's questionnaire. For further discussion, see “Calculation of Normal Value Based on Constructed Value” section of this notice.

On March 21, 2008, the Department published in the Federal Register an extension of the time limit for the completion of the preliminary results of this review until no later than July 30, 2008, in accordance with section 751(a)(3)(A) of the Tariff Act of 1930, as amended (the Act), and 19 CFR 351.213(h)(2). See Certain Individually Quick Frozen Red Raspberries from Chile: Notice of Extension of Time Limit for Preliminary Results of Antidumping Duty Administrative Review, 73 FR 15134 (Mar. 21, 2008).

On March 13, 2008, the Department issued a supplemental questionnaire to Valle Frio, and Valle Frio submitted its response on April 7, 2008. On April 1, 2008, Valle Frio submitted a response to Department's request for CV information. After analyzing these responses, we issued a second supplemental questionnaire to Valle Frio on June 13, 2008. We received a timely filed response on July 07, 2008.

Scope of the Order

The products covered by this order are imports of IQF whole or broken red raspberries from Chile, with or without the addition of sugar or syrup, regardless of variety, grade, size or horticulture method (e.g., organic or not), the size of the container in which packed, or the method of packing. The scope of the order excludes fresh red raspberries and block frozen red raspberries (i.e., puree, straight pack, juice stock, and juice concentrate).

The merchandise subject to this order is currently classifiable under subheading 0811.20.2020 of the Harmonized Tariff Schedule of the United States (HTSUS). Although the HTSUS subheading is provided for convenience and customs purposes, the written description of the merchandise under the order is dispositive.

Fair Value Comparisons

To determine whether sales of IQF red raspberries from Chile to the United States were made at less than normal value (NV), we compared export price (EP) to NV, as described in the “Export Price” and “Normal Value” sections of this notice. We note that we continue to have outstanding sales reconciliation issues with Valle Frio's responses. For purposes of calculating these preliminary results, we are accepting the data provided by Valle Frio. However, we intend to ask for further information following publication of these preliminary results to determine whether the aforementioned responses accurately reflect Valle Frio's sales.

Product Comparison

In accordance with section 771(16) of the Act, we considered all products sold by the respondent in the comparison market covered by the description in the “Scope of the Order” section, above, to be foreign-like products for purposes of determining appropriate product comparisons to U.S. sales. In accordance with section 773(a)(1)(C)(ii) of the Act, in order to determine whether there was a sufficient volume of sales in the home market to serve as a viable basis for calculating NV, we compared the respondent's volume of home market sales of the foreign-like product to the volume of its U.S. sales of the subject merchandise. See the “Normal Value” section, below, for further details.

Normally, we compare U.S. sales to monthly weighted average prices of contemporaneous sales made in the comparison market. The Department determined that for merchandise sold in the United States, Valle Frio did not have valid comparison market sales matches because the calculated difference-in-merchandise (DIFMER) was greater than twenty percent for all matches for reported U.S. sales control numbers (CONNUMs). See Memorandum to the File, “Difference-in-merchandise Calculation for Sociedad Agroindustrial Valle Frio Ltda.” dated March 7, 2008; and Memorandum from Yasmin Nair, International Trade Compliance Analyst, to Susan Kuhbach, Director, Office 1, “Request for Constructed Value” dated March 7, 2008. Since there were no sales of identical or similar merchandise made in the ordinary course of trade in the comparison market, we compared U.S. sales to constructed value (CV). In making product comparisons, consistent with our determination in the original investigation, we matched foreign like products based on the physical characteristics reported by the respondent in the following order: grade, variety, form, cultivation method, and additives. See Notice of Preliminary Determination of Sales at Less than Fair Value and Postponement of Final Determination: IQF Red Raspberries from Chile, 66 FR 67510, 67511 (Dec. 31, 2001) unchanged in Final Determination.²

² See Notice of Final Determination of Sales at Less Than Fair Value: IQF Red Raspberries from Chile, 67 FR 35790 (May 21, 2002) (“Final Determination”).

Normally, the Department employs invoice date as the date of sale. See 19 CFR 351.401(i). However, if the Department determines that another date reflects the date on which the exporter or producer establishes the material terms of sale, the Department may use this date. See id. Valle Frio ships the subject merchandise on or before the date of invoice. We are using the date of shipment (i.e., guia de despacho/dispatch note date) as the date of sale, because this is the date on which the material terms of sale were established. See, e.g., Certain Cold-Rolled and Corrosion-Resistant Carbon Steel Flat Products From Korea: Final Results of Antidumping Duty Administrative Reviews, 63 FR 13170, 13172-73 (March 18, 1998).

Export Price

For sales to the United States, we calculated Export Price (EP), in accordance with section 772 of the Act. Section 772(a) of the Act defines EP as the price at which the subject merchandise is first sold before the date of importation by the exporter or producer outside the United States to an unaffiliated purchaser in the United States, or to an unaffiliated purchaser for exportation to the United States.

We calculated EP because the merchandise was sold by the exporter or producer outside the United States to an unaffiliated purchaser in the United States prior to importation and because constructed export price methodology was not otherwise warranted. We based EP on the packed, FOB price to unaffiliated purchasers in the United States. We made deductions from the starting price for movement expenses in accordance with section 772(c)(2)(A) of the Act. These included, where appropriate, inland freight incurred in transporting merchandise to the Chilean port and domestic brokerage and handling expenses.

Normal Value

Home Market Viability

Section 773(a)(1) of the Act directs that NV be based on the price at which the foreign-like product is sold in the home market, provided that the merchandise is sold in sufficient quantities (or value, if quantity is inappropriate) and that there is no particular market situation that prevents a proper comparison with the EP. Quantities (or value) will normally be considered insufficient if they are less than five percent of the aggregate quantity (or value) of sales of the subject merchandise to the United States. See 19 CFR 351.404(b)(2).

Valle Frio reported that its home market sales of IQF red raspberries during the POR were less than five percent of its sales of IQF red raspberries to the United States. Therefore, Valle Frio did not have a viable home market for purposes of calculating NV. Valle Frio reported sales to France, which was its largest third country market. Valle Frio reported that no other third country markets were viable and sales to France exceeded five percent of its sales to the United States. Accordingly, for purposes of calculating NV, Valle Frio reported its sales to France.

To derive NV, we made the adjustments detailed in the “Calculation of Normal Value Based on Comparison Market Prices” and “Calculation of Normal Value Based on Constructed Value” sections, below.

A. Calculation of Normal Value Based on Comparison Market Prices

Even though, as explained above, Valle Frio did not have valid comparison market sales matches, we calculated NV for purposes of determining selling expenses and profit to be included in CV. To calculate the CV profit percentage, we based comparison market prices on the packed prices to unaffiliated purchasers in France. We adjusted the starting price by deducting movement expenses, including, where appropriate, inland freight from the plant to the port, international freight, and container handling/brokerage charges. We also deducted direct and indirect selling expenses incurred for comparison market sales (e.g., commissions, microbiological/pesticide testing, label expenses), and comparison market packing expenses. We then deducted total comparison market cost of production from the net comparison market price, and divided by total comparison market cost of production to arrive at the CV profit percentage. See Memorandum to the File, “Preliminary Results Calculation Memorandum for Sociedad Agroindustrial Valle Frio Ltda.,” dated July 28, 2008 (Valle Frio Preliminary Calculation Memorandum), which is on file in the Department's Central Records Unit, Room 1117 of the-main Department building.

B. Calculation of Normal Value Based on Constructed Value

Section 773(a)(4) of the Act provides that where NV cannot be based on comparison-market sales, NV may be based on CV. As noted above, the Department determined that for merchandise sold in the United States, Valle Frio did not have valid comparison market sales matches because the calculated DIFMER was greater than the twenty percent for all matches for reported U.S. sales CONNUMs. See Memorandum to the File, “Difference-in-merchandise Calculation for Sociedad Agroindustrial Valle Frio Ltda.” dated March 7, 2008; and Memorandum from Yasmin Nair, International Trade Compliance Analyst, to Susan Kuhbach, Director, Office 1, “Request for Constructed Value” dated March 7, 2008. Accordingly, we based NV on the CV. Section 773(e) of the Act provides that the CV shall be based on the sum of the cost of materials and fabrication for the imported merchandise, plus amounts for selling, general and administrative (SG&A) expenses, profit, and U.S. packing costs. We based SG&A expenses and profit on the actual amounts incurred and realized by the respondent in connection with the production and sale of the foreign-like product in the ordinary course of trade for consumption in the comparison market, in accordance with section 773(e)(2)(A) of the Act. We used U.S. packing costs as described in the “Export Price” section, above.

We relied on the CV data submitted by Valle Frio. We note that we continue to have outstanding cost reconciliation and valuation issues with Valle Frio's responses. For purposes of calculating these preliminary results, we are accepting the data provided by Valle Frio. However, we intend to ask for further information following publication of these preliminary results to determine whether the aforementioned responses accurately reflect Valle Frio's constructed value.

We made adjustments to CV for differences in Circumstances of Sale (COS) in accordance with section 773(a)(8) of the Act and 19 CFR 351.410. For comparisons to EP, we made COS adjustments by deducting direct selling expenses incurred on comparison market sales from, and adding U.S. direct selling expenses to, CV. We also made adjustments, in accordance with 19 CFR 351.410(e), for indirect selling expenses incurred on comparison market or U.S. sales where commissions were granted on sales in one market but not in the other (the commission offset). Specifically, where commissions were granted in the U.S. market but not in the comparison market, we made a downward adjustment to NV for the lesser of: (1) the amount of the commission paid in the U.S. market; or (2) the amount of indirect selling expenses incurred in the comparison market. If commissions were granted in the comparison market but not in the U.S. market, we made an upward adjustment to NV (based on CV) following the same methodology.

Currency Conversion

We made currency conversions in accordance with section 773A(a) of the Act based on the exchange rates in effect on the date of the U.S. sale as reported by the Federal Reserve Bank.

Preliminary Results of Review

We preliminarily find the following weighted-average dumping margin:

Exporter/manufacturer | Weighted-average margin percentage
Sociedad Agroindustrial Valle Frio Ltda./Agricola Framparque | 0.28 (de minimis)

Public Comment and Disclosure

Within ten days of publicly announcing the preliminary results of this review, we will disclose to interested parties any calculations performed in connection with the preliminary results. See 19 CFR 351.224(b). Any interested party may request a hearing within 30 days of publication of this notice. Any hearing, if requested, will be held 37 days after the publication of this notice, or the first business day thereafter. Issues raised in the hearing will be limited to those raised in the case and rebuttal briefs. Interested parties may submit case briefs within 30 days of the date of publication of this notice. See 19 CFR 351.309(c). Rebuttal briefs, which must be limited to issues raised in the case briefs, may be filed not later than five days after the date for filing case briefs. See 19 CFR 351.309(d). Parties who submit case briefs or rebuttal briefs in this proceeding are requested to submit with each argument: (1) a statement of the issue; (2) a brief summary of the argument with an electronic version included; and (3) a table of statutes, regulations, and cases cited. See 19 CFR 351.309(c)(2).

The Department will issue the final results of this administrative review, including the results of its analysis of issues raised in any such written briefs or hearing, within 120 days of publication of these preliminary results.

Assessment Rates

Upon completion of the administrative review, the Department shall determine, and Customs and Border Protection (CBP) shall assess, antidumping duties on all appropriate entries. Pursuant to 19 CFR 351.212(b)(1), for all sales made by Valle Frio for which it has reported the importer of record and the entered value of the U.S. sales, we have calculated importer-specific assessment rates based on the ratio of the total amount of antidumping duties calculated for the examined sales to the total entered value of those sales. Where the respondent did not report the entered value for U.S. sales, we have calculated importer-specific assessment rates for the merchandise in question by aggregating the dumping margins calculated for all U.S. sales to each importer and dividing this amount by the total quantity of those sales. To determine whether the duty assessment rates were de minimis, in accordance with the requirement set forth in 19 CFR 351.106(c)(2), we calculated importer-specific ad valorem rates based on the estimated entered value. Where the assessment rate is above de minimis, we will instruct CBP to assess duties on all entries of subject merchandise by that importer. Pursuant to 19 CFR 351.106(c)(2), we will instruct CBP to liquidate without regard to antidumping duties any entries for which the assessment rate is de minimis (i.e., less than 0.50 percent). The Department will issue assessment instructions directly to CBP within 15 days of publication of the final results of this review.

The Department clarified its “automatic assessment” regulation on May 6, 2003. See Antidumping and Countervailing Duty Proceedings: Assessment of Antidumping Duties, 68 FR 23954 (May 6, 2003). This clarification will apply to entries of subject merchandise during the POR produced by the respondent for which it did not know its merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

On July 20, 2007, the Department published a Federal Register notice that, inter alia, revoked this order, effective July 9, 2007. See IQF Red Raspberries from Chile: Final Results of Sunset Review and Revocation of Order, 72 FR 39793 (July 20, 2007). Therefore, there will be no need to issue new cash deposit instructions pursuant to the final results of this administrative review.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act.

Dated: July 28, 2008.
David M. Spooner,
Assistant Secretary for Import Administration.

[FR Doc. E8-17810 Filed 8-1-08; 8:45 am]

BILLING CODE 3510-DS-S